DEPARTMENT OF TRANSPORTATION

Federal Aviation Administration

Fifth Meeting, Special Committee 213 Enhanced Flight Vision Systems/Synthetic Vision System, (EFVS/SVS)

AGENCY: Federal Aviation Administration (FAA), DOT.

ACTION: Notice of RTCA Special Committee 213, Enhanced Flight Vision Systems/Synthetic Vision System, (EFVS/SYS).

SUMMARY: The FAA is issuing this notice to advise the public of a meeting of RTCA Special Committee 213, Enhanced Flight Vision Systems/Synthetic Vision System (EFVS/SVS).

DATES: The meeting will be held March 4-6, 2008 from 8:30 a.m. - 5 p.m.

ADDRESSES: The meeting will be held at Augusta Marriott Hotel, 2 Tenth Street, Augusta, Georgia 30901.

FOR FURTHER INFORMATION CONTACT: RTCA Secretariat, 1828 L Street, NW., Suite 805, Washington, DC 20036; telephone (202) 833-9339; fax (202) 833-9434; Web site http://www.rtca.org for directions. Contact: Ken Elliott, Jetcraft Corporation, telephone (706) 722-8900.

SUPPLEMENTARY INFORMATION: Pursuant to section 10(a)(2) of the Federal Advisory Committee Act (Pub. L. 92-463, 5 U.S.C., Appendix 2), notice is hereby given for a Special Committee 213 meeting. The agenda will include:

• March 4th:

• Opening Plenary Session (Welcome, Introductions, and Agenda Review).

• Review SC-213 Objectives, Action Items, and SC-213 Web site content.

• Approve minutes from previous meeting.

• Review initial reports from WG 1, and WG 2.

• Industry Presentations.

• WG 1 and WG 2 meetings:

• WG 1: Review/edit most recent MASPS; Consensus of draft MASPS among WG 1.

• WG 2: Review/edit draft MASPS.

• March 5th:

• Continuation of WG 1 and WG 2 meetings.

• WG 2B: Continue to formulate plan performance criteria.

• March 6th:

• Plenary consensus of WG 1 draft MASPS.

• Review of action items.

• Define next steps for continued MASPS development.

• Closing Plenary Session (Other Business, Establish date and time for next meeting, Adjourn).

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on February 5, 2008.
Francisco Estrada C.,
RTCA Advisory Committee.

[FR Doc. 08-618 Filed 2-12-08; 8:45 am]

BILLING CODE 4910-13-M